DEPARTMENT OF HOMELAND SECURITY

Coast Guard

33 CFR Part 181

46 CFR Parts 25, 28, 108, 117, 133, 141, 160, 169, 180 and 199

[Docket No. USCG-2022-0120]

RIN 1625-AC62

Lifejacket Approval Harmonization

Correction

In proposed rule document 2023-06504, appearing on pages 21016-21058 in the issue of Friday, April 7, 2023, make the following correction:

§ 160.060-15 [Corrected]

On page 21050, in the second column, in paragraph (e)(2), in the third and fourth lines, “not less than 151 2044;2 pounds of buoyancy in fresh water” is corrected to read “not less than 15½ pounds of buoyancy in fresh water”.

[FR Doc. C1-2023-06504 Filed 4-28-23; 8:45 am]

BILLING CODE 0099-10-P